DEPARTMENT OF COMMERCE

National Oceanic and Atmospheric Administration

[RTID 0648-XC728]

Mid-Atlantic Fishery Management Council (MAFMC); Public Meeting

AGENCY: National Marine Fisheries Service (NMFS), National Oceanic and Atmospheric Administration (NOAA), Commerce.

ACTION: Notice; public meeting.

SUMMARY: The Ecosystem and Ocean Planning (EOP) Committee and Advisory Panel (AP) of the Mid-Atlantic Fishery Management Council (Council) will hold a joint meeting. See SUPPLEMENTARY INFORMATION for agenda details.

DATES: The meeting will be held on Thursday, February 23, 2023, from 1 p.m. through 3 p.m.

ADDRESSES: The meeting will take place over webinar with a telephone-only connection option. Details on how to connect to the webinar by computer and by telephone will be available at: www.mafmc.org.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is for the EOP Committee and AP to provide feedback on the results and future application of a research project the Council is collaborating on with a research team from Rutgers University. The project developed forecast models to predict short-term (1-10 years) climate-induced distribution changes for four economically important Mid and South Atlantic managed species (Summer Flounder, Spiny Dogfish, Illex Squid, and Gray Triggerfish). The forecast model was initially developed, fully tested, and evaluated for summer flounder and has been fitted and applied to the other three focal species. The EOP Committee and AP will provide feedback on the model results, potential model utility, and possible future science and management applications. EOP Committee and AP feedback, as well as input from the Council's Scientific and Statistical Committee (SSC), will be presented to the Council for their consideration.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: February 1, 2023.
Rey Israel Marquez,
Acting Deputy Director, Office of Sustainable Fisheries, National Marine Fisheries Service.

[FR Doc. 2023-02505 Filed 2-6-23; 8:45 am]

BILLING CODE 3510-22-P